DEPARTMENT OF STATE

[Public Notice: 3602]

60-Day Notice of Proposed Information Collection: DS-71, Affidavit of Identifying Witness (Formerly: DSP-71) OMB # 1405-0088

AGENCY: U.S. Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: Regular—Reinstatement, with change, of a previously approved collection for which approval has expired.

Originating Office: Bureau of Consular Affairs, CA/PPT/FO/FC.

Title of Information Collection: Affidavit of Identifying Witness.

Frequency: On Occasion.

Form Number: DS-71.

Respondents: Individuals or Households.

Estimated Number of Respondents: 118,000.

Average Hours Per Response: 1/12 hr. (5 min.).

Total Estimated Burden: 9,833.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Margaret A. Dickson, CA/PPT/FO/FC, Department of State, 2401 E Street, NW, Room H904, Washington, D.C. 20522, and at 202-663-2460.

Dated: March 16, 2001.
Georgia Rogers,
Deputy Assistant Secretary, Bureau of Consular Affairs, U.S. Department of State.

[FR Doc. 01-7428 Filed 3-23-01; 8:45 am]

BILLING CODE 4710-06-P